DEPARTMENT OF HEALTH AND HUMAN SERVICES

Administration for Children and Families

Proposed Information Collection Activity; U.S. Repatriation Program Forms (OMB#: 0970-0474)

AGENCY: Office of Human Services Emergency Preparedness and Response, Administration for Children and Families, HHS.

ACTION: Request for public comment.

SUMMARY: The Administration for Children and Families (ACF) is requesting a 3-year extension of the U.S. Repatriation Program forms (OMB #0970-0474, expiration 4/30/2022). There are several changes requested to the eight forms. Burden estimates have also been updated.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The purpose of the U.S. Repatriation Program (Program) is to provide temporary assistance to eligible U.S. citizens and their dependents (repatriates) returned by the Department of State from a foreign country because of destitution, illness, war, threat of war, or a similar crisis, and who are without available resources, or (2) mental illness. Temporary assistance is provided upon their arrival in the United States and is available initially for up to 90 days from a repatriate's date of arrival in the United States. Temporary assistance is provided in the form of a service loan and is repayable to the U.S. Government.

Temporary assistance is defined in 42 U.S.C. 1313(c) as money payments, medical care, temporary lodging, transportation, and other goods and services necessary for the health or welfare of individuals, including guidance, counseling, and other welfare services provided to them within the United States upon their arrival in the United States. Other goods and services may include clothes, food, assistance with obtaining identification (driver's license, birth certificate), child care, and translation services.

The ACF Office of Human Services Emergency Preparedness and Response (OHSEPR), at the U.S. Department of Health and Human Services (HHS), administers the Program.

OHSEPR made changes to all eight forms to ensure the information collected aligns with Program statutes and regulations as well as the purpose and use of the form. Revisions include clarifying statutory authority and general instructions on completing and submitting the forms. These changes make the forms more user friendly. OHSEPR also reduced the burden estimates to make them more accurate.

The following is a description of the forms and the proposed revisions:

Emergency Repatriation Eligibility Application (Form RR-01)

The purpose of this form is for U.S. citizens and their dependents to request temporary assistance during an emergency repatriation. Proposed revisions include the following:

• Changing the title of the form from `Emergency and Group Processing Form' to `Emergency Repatriation Eligibility Application'

• Adding the following information:

○ Date and time of applicant's entry and exit to the Emergency Repatriation Center

○ Applicant's flight information

○ Name and contact information for responsible person (if main U.S. citizen applicant is a minor)

○ Gender option (X) for applicant and dependents to align with Department of State gender information on passports

○ Option for applicants and dependents to provide alternative ID number (instead of passport number)

○ Needs assessment section to determine applicant's needs

○ Details about quantity of temporary assistance requested

○ Language to signatory block to specify the meaning of signing the form

○ Materials/information provided to the repatriate

• Removing eligibility determination question regarding availability of next of kin/friends to provide resources

Emergency Repatriation Reimbursement Request (Form RR-02)

The purpose of this form is for states to request reimbursement for emergency repatriation expenditures. Proposed revisions include the following:

• Changing the title of the form from `Emergency and Group Repatriation Financial Form' to `Emergency Repatriation Reimbursement Request'

• Modifying information about location of service provision

• Adding planning/training/exercise as a category for reimbursement

• Clarifying instructions on documentation for allowable costs

Loan Waiver and Deferal Application (Form RR-03)

The purpose of this form is for repatriates to request a waiver or deferral of their loan for temporary assistance received through the U.S. Repatriation Program. Proposed revisions include the following:

• Changing the title of the form from `Repatriation Loan Waiver and Deferral Request Form' to `Loan Waiver and Deferral Application'

• Separating fixed monthly expenses from loans and liabilities

• Adding the following information:

○ Repatriate's type of current housing

○ Employer's email address

○ Option for repatriate to include additional employment

○ Assets such as checking/savings accounts

○ Language to signatory block to specify the meaning of signing this form

○ Name, relationship to repatriate, and contact information for authorized representative

• Removing Social Security Number (SSN) for dependents

Routine Repatriation Reimbursement Request (Form RR-04)

The purpose of this form is for state and local service providers to submit reimbursement requests for providing temporary assistance to repatriates under the U.S. Repatriation Program. Proposed revisions include the following:

• Changing the title of the form from `Non-Emergency Monthly Financial Statement Form' to `Routine Repatriation Reimbursement Request'

• Clarifying instructions on documentation for allowable costs

• Revising language on signatory block to specify the meaning of signing this form

• Removing these items:

○ State or local provider's recommendation for waiver approval

○ SSN for dependents

Repatriation Repayment and Privacy Agreement (Form RR-05)

The purpose of this form is for repatriates to agree to accept temporary assistance under the U.S. Repatriation Program, to agree to repay HHS for temporary assistance, and to allow HHS to share personal information for benefits purposes. Proposed revisions include the following:

• Changing the title of the form from `Privacy and Repayment Agreement Form' to `Repatriation Repayment and Privacy Agreement'

• Revising language on signatory block to specify the meaning of signing the form

• Clarifying that the Privacy Act Statement applies to Repatriation forms that collect personal identifiable information

• Adding voluntary demographic questions to align with Executive Order 13985 (Advancing Racial Equity and Support for Underserved Communities Through the Federal Government)

• Adding instructions on completing the form

Refusal of Temporary Assistance (Form RR-06)

The purpose of this form is for repatriates to refuse to accept temporary assistance under the U.S. Repatriation Program after receiving information about the Program. Proposed revisions include adding the following:

• Instructions on completing the form

• The country the repatriate returned from

Temporary Assistance Extension Request (Form RR-07)

The purpose of this form is for repatriates to request an extension of temporary assistance beyond the initial 90-day eligibility period. Proposed revisions include the following:

• Removing these items:

○ SSN for dependents

○ “other reasons” as an option for justification of request

• Adding these items:

○ Authorized representative information

○ Sections on household income, fixed monthly expenses, and loans and liabilities

○ Language on signatory block to specify meaning of signing this form

Emergency Repatriation Request for Cost Approval and Federal Support (Form RR-08)

The purpose of this form is for states to request pre-approval for costs or federal support for an emergency repatriation. Proposed revisions include the following:

• Changing the title of the form from `State Request for Federal Support' to `Emergency Repatriation Request for Cost Approval and Federal Support'

• Adding separate sections for description and justification of cost pre-approvals and federal support requests

• Modifying section on Federal official's determination of state's request

Respondents: States, territories, local social service providers, administrative staff, repatriates, and authorized representatives of repatriates.

Annual Burden Estimates
Instrument | Total number of respondents | Annual number of responses per respondent | Average burden hours per response | Annual burden hours
Emergency Repatriation Eligibility Application | 1,000 | 1 | .5 | 500
Emergency Repatriation Reimbursement Request | 10 | 1 | .3 | 3
Loan Waiver and Deferral Application | 100 | 1 | .5 | 50
Routine Repatriation Reimbursement Request | 25 | 10 | .3 | 75
Repatriation Repayment and Privacy Agreement | 800 | 1 | .17 | 136
Refusal of Temporary Assistance | 300 | 1 | .05 | 15
Temporary Assistance and Extension Request | 25 | 1 | .3 | 8
Emergency Repatriation Request for Cost Approval and Federal Support | 5 | 10 | .3 | 15

Estimated Total Annual Burden Hours: 802.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 1313, 24 U.S.C. 321-329.

Mary B. Jones,
ACF/OPRE Certifying Officer.

[FR Doc. 2022-02374 Filed 2-3-22; 8:45 am]

BILLING CODE 4184-PL-P